DEPARTMENT OF HOMELAND SECURITY

Coast Guard

33 CFR Part 165

[Docket No. USCG-2022-0846]

Safety Zone; Annual Fireworks Displays and Other Events in the Eighth Coast Guard District Requiring Safety Zones

AGENCY: Coast Guard, DHS.

ACTION: Notification of enforcement of regulation.

SUMMARY: The Coast Guard will enforce a safety zone for the Crescent City Countdown Club/New Year's Celebration fireworks display, from December 31, 2022 at 11:30 p.m. through January 1, 2023 at 12:30 a.m., to provide for the safety of life on the navigable waterways during this event. Our regulation for annual fireworks displays and other events in the Eighth Coast Guard District identifies this safety zone on Mississippi River mile marker (MM) 93.5-96.5, New Orleans, LA. During the enforcement period, entry into this zone is prohibited unless authorized by the Captain of the Port or designated representative.

DATES: The regulations in 33 Code of Federal Regulations, § 165.801, Table 5, line 10 will be enforced from 11:30 p.m. on December 31, 2022 through 12:30 a.m. on January 1, 2023.

FOR FURTHER INFORMATION CONTACT: If you have questions about this notification of enforcement, call or email Lieutenant Commander William Stewart, Sector New Orleans, U.S. Coast Guard; telephone (504)365-2246, email William.A.Stewart@uscg.mil.

SUPPLEMENTARY INFORMATION: The Coast Guard will enforce a safety zone for the Crescent City Countdown Club/New Year's Celebration fireworks display, from December 31, 2022 at 11:30 p.m. through January 1, 2023 at 12:30 a.m., to provide for the safety of life on the navigable waterways during this event. Our regulation for annual fireworks displays and other events in the Eighth Coast Guard District, 33 CFR 165.801, as updated by Federal Register Document 83 FR 55488, identifies this safety zone on Mississippi River MM 93.5-96.5, New Orleans, LA. During the enforcement period, as reflected in § 165.801(a) through (d), entry into this zone is prohibited unless authorized by the Captain of the Port or a designated representative.

In addition to this notification of enforcement in the Federal Register, the Coast Guard plans to provide notification of this enforcement period via Marine Safety Information Bulletin and Broadcast Notice to Mariners.

Dated: December 15, 2022.
K.K. Denning,
Captain, U.S. Coast Guard, Captain of the Port Sector New Orleans.

[FR Doc. 2022-27782 Filed 12-21-22; 8:45 am]

BILLING CODE 9110-04-P